DEPARTMENT OF HEALTH AND HUMAN SERVICES

Administration for Children and Families

Proposed Information Collection Activity; Comment Request

Title: Evaluation of the Transitional Living Program (TLP).

OMB No.: 0970-0383.

Description: The Family and Youth Services Bureau (FYSB) and the Office of Planning, Research, Evaluation (OPRE) in the Administration for Children and Families (ACF) are requesting to continue collecting data as part of a currently approved information collection (OMB No. 0970-0383). The purpose is to continue baseline data collection at study enrollment and follow-up data collection for the Evaluation of the Transitional Living Program (TLP). The TLP evaluation was designed to examine the effects of FYSB's Transitional Living Program on runaway and homeless youth, focusing on such outcomes as housing and homelessness, education or training, employment, social connections, socio-emotional well-being, and risk behaviors.

Data collection will include three primary surveys, previously approved by OMB: (1) A survey administered at the time of TLP enrollment (baseline), (2) a survey administered 6 months after enrollment, which will collect information on short-terms outcomes; and (3) a survey administered at 12 months, which will collect information on longer-term outcomes. Participants will be enrolled through the TLP study sites.

Respondents: Runaway and homeless youth ages 16 to 22 who agree to participate in the study upon enrollment into one of the TLP study sites.

Annual Burden Estimates
Instrument | Total number of respondents | Annual number of respondents | Number of responses per respondent | Average burden hours per response | Annual burden hours
Young Adult Baseline Survey | 600 | 200 | 1 | 0.62 | 124
Young Adult 6-Month Follow Up Survey | 600 | 200 | 1 | 0.61 | 122
Young Adult 12-Month Follow Up Survey | 600 | 200 | 1 | 0.61 | 122

Estimated Total Burden Hours: 368.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW, Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary B. Jones,
ACF/OPRE Certifying Officer.

[FR Doc. 2018-10461 Filed 5-15-18; 8:45 am]

BILLING CODE 4184-01-P